ENVIRONMENTAL PROTECTION AGENCY

40 CFR Parts 445

[FRL 6535-5]

Effluent Limitations Guidelines, Pretreatment Standards, and New Source Performance Standards for the Metal Products and Machinery Point Source Category; Announcement of Meeting

AGENCY: Environmental Protection Agency (EPA).

ACTION: Notice; announcement of meeting.

SUMMARY: EPA will conduct a public meeting on the upcoming Metal Products and Machinery proposed rulemaking on March 3, 2000, from 9:30 a.m. to 12:30 p.m.

The Office of Science and Technology within EPA's Office of Water is holding the public meeting in order to inform all interested parties of the current status of the Metal Products and Machinery (MP&M) effluent guideline. EPA intends to propose effluent limitations guidelines and standards for the MP&M industrial category in October 2000. The meeting is intended to be a forum in which EPA can report on the status of the rulemaking and interested parties can provide information and ideas to the Agency on key technical, economic, and implementation issues.

The meeting is open to the public, and limited seating for the public is available on a first-come, first-served basis. For information on the location and directions, see the Addresses section below.

DATES: EPA will conduct a public meeting on the upcoming Metal Products and Machinery proposed rulemaking on March 3, 2000, from 9:30 a.m. to 12:30 p.m.

ADDRESSES: The Metal Products and Machinery public meeting will be held at the National Wildlife Visitor Center Auditorium of the Patuxent Research Refuge, 10901 Scarlet Tanager Loop, Laurel, MD (301) 497-5760; “http://www.prr.r5.fws.gov/vclocation.html”. Directions are as follows: From Washington, D.C. take Baltimore-Washington Parkway North (I-295N) to the Powder Mill Road exit. Turn right (East) onto Powder Mill Road. Go 1.9 miles and turn right into Visitor Center entrance (Scarlet Tanager Loop). Go 1.3 miles to parking lot. From Baltimore take Baltimore/Washington Parkway South (I-295S) to the Powder Mill Road exit. Turn left (East) onto Powder Mill Road. Go 1.9 miles and turn right into Visitor Center entrance (Scarlet Tanager Loop). Go 1.3 miles to parking lot.

FOR FURTHER INFORMATION CONTACT: Shari Barash, Office of Water (4303), 1200 Pennsylvania Avenue, NW, Washington, DC 20460; telephone (202) 260-7130; email: barash.shari@epa.gov.

SUPPLEMENTARY INFORMATION: EPA is developing proposed effluent limitations guidelines and standards for the MP&M Point Source Category under authority of the Clean Water Act (33 U.S.C. 1251 et. seq.). The MP&M effluent limitations guidelines and standards proposal will apply to facilities that manufacture, rebuild, or maintain finished metal parts, products, or machines. The 18 industrial sectors which are being examined for the MP&M regulation include the following: Aerospace; Aircraft; Bus & Truck; Electronic Equipment; Hardware; Household Equipment; Instruments; Metal Finishing and Electroplating Job Shops; Mobile Industrial Equipment; Motor Vehicles; Office Machines; Ordnance; Precious and Non-precious Metals; Railroad; Ships & Boats; Stationary Industrial Equipment; Printed Circuit Boards; and Other Metal Products. The meeting will provide an update on the development of the proposed rule to interested parties. EPA will provide an overview of the development of the regulation including a discussion of the data collection efforts, the potential treatment technology options, the potential subcategorization of industry segments, and the schedule for the MP&M rulemaking. The meeting will not be recorded by a reporter or transcribed for inclusion in the record for the MP&M rulemaking.

Documents related to the topics mentioned above and a more detailed agenda will be available at the meeting. For those unable to attend the meeting, a document summary will be available following the meeting and can be obtained by an e-mail or telephone request to Shari Barash at the previously mentioned address.

Dated: February 7, 2000.
Geoffrey H. Grubbs,
Director, Office of Science and Technology.

[FR Doc. 00-3215 Filed 2-10-00; 8:45 am]

BILLING CODE 6560-50-P